DEPARTMENT OF STATE

[Public notice: 6064]

60-Day Notice of Proposed Information Collection: U.S. Department of State Driver License and Tax Exemption Card Application; OMB Collection Number 1405-0105; Forms DS-1972, DS-1972D & DS-1972T

ACTION: Notice of request for public comments.

SUMMARY: The Department of Sate is seeking Office of Management and Budget (OMB) approval for the information collection described below. The purpose of this notice is to allow 60 days for public comment in the Federal Register preceding submission to OMB. This process is conducted in accordance with the Paperwork Reduction Act of 1995.

• Title of Information Collection: U.S. Department of State Driver License and Tax Exemption Card Application.

• OMB Control Number: 1405-0105.

• Type of Request: Extension of a currently approved collection.

• Originating Office: Diplomatic Security/Office of Foreign Missions (DS/OFM).

• Form Numbers: DS-1972, DS-1972D, DS-1972T.

• Respondents: Foreign government representatives assigned to the United States.

• Estimated Number of Respondents: 350 foreign missions.

• Estimated Number of Responses: 21,284 responses (DS-1972: 6,385), (DS-1972D: 4,470), (DS-1972T: 10,249).

• Average Hours Per Response: DS-1972 (30 minutes), DS-1972D (20 minutes), DS-1972T (15 minutes).

• Total Estimated Burden: 7,275 hours.

• Frequency: On occasion.

• Obligation to Respond: Required to obtain or retain benefits.

The Department will accept comments from the public up to 60 days from date of publication in the Federal Register. You may submit comments by either of the following methods:

• E-mail: OFMInfo@state.gov.

• Mail: U.S. Department of State, Diplomatic Security, Office of Foreign Missions, 2201 C Street, NW., Room 2238, Washington DC, 20520.

You must include the DS form number, information collection title, and OMB control number in any correspondence.

FOR FURTHER INFORMATION CONTACT: Direct requests for additional information regarding the collection listed in this notice, including requests for copies of the proposed information collection and supporting documents, to Attn: Jacqueline Robinson, Diplomatic Security, Office of Foreign Missions, 2201 C Street, NW., Room 2238, Washington DC, 20520, who may be reached on (202) 647-3416 or OFMInfo@state.gov.

SUPPLEMENTARY INFORMATION: We are soliciting public comments to permit the Department to:

• Evaluate whether the proposed collection of information is necessary for the proper performance of our functions.

• Evaluate the accuracy of our estimate of the burden of the proposed collection, including the validity of the methodology and assumptions used.

• Enhance the quality, utility, and clarity of the information to be collected.

• Minimize the reporting burden on those who are to respond, including through the use of automated collection techniques or other forms of technology.

Abstract of proposed collection: The forms associated with OMB Collection Number 1405-0105 are means by which foreign missions in the United States request the issuance of a driver license and/or a sales tax exemption card for foreign mission personnel and their dependents. The exemption from sales taxes and the operation of a motor vehicle in the United States by foreign mission personnel are benefits under the Foreign Missions Act, 22 U.S.C. 4301 et seq., which must be obtained by foreign missions through the U.S. Department of State, Office of Foreign Missions (DS/OFM). The DS-1972, DS-1972D, and DS-1972T applications provide OFM with the necessary information required to administer the two benefits effectively and efficiently. Sales tax exemption is enjoyed under the provisions of international law but is granted on the bases of reciprocity. The administration of driver licenses at the national level helps the Federal Government identify operators who repeatedly receive citations. This also helps the Federal Government determine the necessary course of action that may be required against an individual's driving privilege. Accordingly, the Federal Government is able to provide consistency of enforcement to the diplomatic community on a national level through a uniform program. The respondents are foreign government representatives assigned to the United States.

Methodology: These applications/information collections are submitted by all foreign missions to the Office of Foreign Missions via the following methods: mail, personal delivery, and/or electronically.

Dated: December 27, 2007.
Claude Nebel,
Deputy Assistant Secretary, Bureau of Diplomatic Security, Office of Foreign Missions, Department of State.

[FR Doc. E8-904 Filed 1-17-08; 8:45 am]

BILLING CODE 4710-43-P